DEPARTMENT OF THE INTERIOR

Fish and Wildlife Service

50 CFR Part 15

RIN 1018-AH89

Importation of Exotic Wild Birds Into the United States; Adding Blue-Fronted Amazon Parrots From Argentina's Approved Sustainable-Use Management Plan to the Approved List of Non-Captive-Bred Species

AGENCY: Fish and Wildlife Service, Interior.

ACTION: Proposed rule.

SUMMARY: In this rule, the U.S. Fish and Wildlife Service (Service) proposes to approve a sustainable-use management plan developed by the CITES Management Authority of Argentina for blue-fronted amazon parrots (Amazona aestiva), under the Wild Bird Conservation Act of 1992 (WBCA). Approval of Argentina's petition would allow the import into the United States of blue-fronted amazon parrots removed from the wild in Argentina under an approved sustainable-use management plan. Criteria for approval of sustainable-use management plans are contained in 50 CFR 15.32. This rule proposes to add blue-fronted amazon parrots to the approved list of non-captive-bred (wild-caught) species contained in 50 CFR 15.33(b).

DATES: Comments must be submitted on or before October 6, 2003.

ADDRESSES: Materials related to this proposed rule are available for public inspection by appointment from 8 a.m. to 4 p.m., Monday through Friday, at the Division of Management Authority, U.S. Fish and Wildlife Service, 4401 North Fairfax Drive, Room 700, Arlington, Virginia 22203.

Please send comments and materials relating to this proposed rule to Dr. Peter O. Thomas, Chief, Division of Management Authority, at the above address, or via E-mail at: cites@fws.gov.

FOR FURTHER INFORMATION CONTACT: Dr. Peter O. Thomas, Chief, Division of Management Authority, U.S. Fish and Wildlife Service; telephone (703) 358-2093; fax (703) 358-2280.

SUPPLEMENTARY INFORMATION:

Background

This proposed rule would amend the regulations implementing aspects of the Wild Bird Conservation Act (WBCA), which was signed into law on October 23, 1992. The WBCA limits or prohibits imports of exotic bird species to ensure that their wild populations are not harmed by trade. It also encourages wild bird conservation programs in countries of origin by ensuring that all imports of such species into the United States are biologically sustainable and not detrimental to the survival of the species. A final rule published in the Federal Register on November 16, 1993 (58 FR 60536), implemented the prohibitions stipulated in the WBCA and provided permit requirements and procedures for some allowed exemptions.

Import quotas were established for CITES-listed bird species for the year immediately following enactment of the WBCA, from October 23, 1992, to October 22, 1993. Those quotas were announced in the Federal Register on December 4, 1992 (57 FR 57510). In that same notice, we informed the public that, after that year, the importation of all exotic bird species listed in the CITES Appendices would be prohibited unless the species was listed in an approved list, or unless the species was a member of one of the ten families of birds specifically exempted from the WBCA. A notice published on March 30, 1993 (58 FR 16644), solicited public comments and announced a public meeting, held April 15-16, 1993, to receive input for developing regulations to implement some of the provisions of the WBCA. We received input, both at the meeting and in writing, from a broad cross-section of the interested public. During the year in which import quotas for CITES-listed bird species were in place, we published two notices in the Federal Register, one on April 16, 1993 (58 FR 19840), and one on August 10, 1993 (58 FR 42573), announcing species for which the quotas had been met and no further individual birds could be imported.

Since the publication of the final rule of November 16, 1993, imports of all CITES-listed birds (as defined in the final rule) are prohibited, except for (a) species included in an approved list; (b) specimens for which an import permit has been issued; (c) species from countries that have approved sustainable-use management plans for those species; or (d) specimens from approved foreign captive-breeding facilities. We published a proposed rule in the Federal Register on March 17, 1994 (59 FR 12784), that would implement procedures for the establishment of an approved list of captive-bred species listed in the CITES Appendices that could be imported without a WBCA permit, provide criteria for including non-captive-bred (wild-caught) species in the approved list, and provide criteria for approval of foreign captive-breeding facilities.

As the result of a lawsuit filed on February 15, 1994, and a resultant District Court Order that found a portion of the regulation in the November 16, 1993, Federal Register invalid, we announced in the Federal Register on May 24, 1994 (59 FR 26810), that all exotic birds listed in Appendix III of CITES would also be covered by the automatic import moratorium of the WBCA, regardless of their country of origin. A proposed rule was published on June 3, 1994 (59 FR 28826), to promulgate that regulatory change, and the final rule was published on December 2, 1994 (59 FR 62254).

On December 2, 1994 (59 FR 62255), we published a final rule implementing procedures for the establishment of an approved list of captive-bred species listed in the CITES Appendices that could be imported without a WBCA permit; the approved captive-bred species were those for which it had been determined that trade involved only captive-bred specimens.

A final rule published on January 24, 1996 (61 FR 2084), implemented procedures for the establishment of an approved list of non-captive-bred (wild-caught) species listed in the CITES Appendices that could be imported. The list of approved non-captive-bred species is contained in 50 CFR 15.33(b). For wild-caught CITES-listed birds to be on the approved list, we must determine that CITES is being effectively implemented for the species for each country of origin from which imports will be allowed, CITES-recommended measures are implemented, and there is a scientifically based management plan for the species that is adequately implemented and enforced. The scientifically based management plan must: (a) Provide for the conservation of the species and its habitat; (b) include incentives for conservation; (c) ensure that the use of the species is biologically sustainable and is well above the level at which the species might become threatened; (d) ensure that the species is maintained throughout its range at a level consistent with its role in the ecosystem; (e) address factors that include illegal trade, domestic trade, subsistence use, disease, and habitat loss; and (f) ensure that the methods of capture, transport, and maintenance of the species minimize the risk of injury or damage to health. For a species with a multinational distribution, we must also consider (a) whether populations of the species in other countries will be detrimentally affected by exports from the country requesting approval; (b) whether factors affecting conservation of the species are regulated throughout its range so that recruitment and/or breeding stocks will not be detrimentally affected by the proposed export; (c) whether the projected take and export will detrimentally affect breeding populations; and (d) whether the projected take and export will detrimentally affect existing enhancement activities, conservation programs, or enforcement efforts throughout the species' range. A species and country of export listed in 50 CFR 15.33(b) may be approved for three years, after which time the Service will have an opportunity to consider renewal of the approval.

On August 10, 2000, we published a notice of receipt of application for approval in the Federal Register (65 FR 49007), which announced the receipt of a petition from the Management Authority of Argentina, Dirección de Fauna and Flora Silvestre, for approval of a sustainable-use management plan for the blue-fronted amazon parrot (Amazona aestiva) in Argentina. We accepted comments on that application until October 11, 2000. Although we have used information received to date in formulating this proposed rule, we will address previously received comments as well as any new comments in our final rule.

Criteria for Approval of Species for Importation (50 CFR 15.32)

Section 15.32(b)(1) Whether the Country of Export Is Effectively Implementing the Convention

Argentina has been a Party to CITES since 1981 and has established two Management Authorities and two Scientific Authorities. Designation of competent CITES authorities is crucial for effective implementation of the Convention and ensures that the country has the necessary regulatory and technical infrastructure for the issuance of CITES documents and for making the required findings for the issuance of those documents. Argentina received a Category 1 rating in the CITES National Legislation Project. As directed in this project, the CITES Secretariat made this determination following a thorough review of Argentina's CITES implementing legislation. Category 1 is the highest rating possible and indicates that a Party has enacted “legislation that is believed generally to meet the requirements for implementation of CITES.” Furthermore, the CITES Standing Committee has never recommended that other CITES Parties enact sanctions against Argentina for failure to submit annual reports or properly implement the Convention. Argentina has also taken additional steps to demonstrate its commitment to the conservation of blue-fronted amazon parrots. In 1992, in response to concerns regarding the large number of blue-fronted amazons in trade, Argentina instituted a zero export quota. Prior to re-opening the export of blue-fronted amazons, Argentina worked to develop and implement a sustainable-use management plan for the species. Based on this information, we conclude that Argentina is effectively implementing CITES.

Section 15.32(b)(2) Whether the Country of Export Has Developed a Scientifically Based Management Plan for the Species

Although the population biology information provided in the application is not exhaustive, we conclude that there is sufficient baseline data provided in the petition to determine that Argentina has developed a scientifically based management plan and has established levels of harvest that will not be detrimental to the survival of the species in the wild.

Conservation of species and habitat and incentives for conservation: The management plan provides for the conservation of the species and its habitat. The purpose of the sustainable-use management program, Project Elé, is to increase wild populations of blue-fronted amazons by working with private landowners to protect critical habitat (Chaco and transitional forests) and allow a strictly controlled limited harvest for export. The project currently covers 150,000 km² in the Provinces of Chaco, Formosa, Jujuy, and Salta. These Provinces contain the majority of the remaining Chaco and transitional forest habitat and are where the greatest concentration of blue-fronted amazons in Argentina occurs (Moschione and Banchs, 1993). The habitat occurs primarily on privately or communally owned land. The main threat to the species in Argentina is habitat loss. According to Flombaum, et. al. (1997), the most limiting factor for survival of the birds is the lack of nest sites caused by accelerated deforestation. The birds nest only in primary-growth forests, with most nests in white quebracho trees (Aspidosperma quebracho-blanco)—a species that is in demand for tannins used for curing leather. Other species, such as quebracho colorado (Schinopsis quebraco-colorado), ceiba (Ceiba insignis), algarrobo blanco (Prosopsis alba), and palo santo (Bulnesia sarmientoi), which are used by the birds as nesting sites and for food, are commercially valuable for use as fenceposts, telephone poles, and furniture. In addition, large tracts of forest are cleared for cultivation of sugar cane, soybean, cotton, tobacco, and other crops. Because much of the remaining habitat used by the blue-fronted amazon is on private property, participation of property owners in the management program provides a deterrent to destroying parrot habitat for agricultural or development purposes.

We believe that the proposed level of harvest will maintain the species throughout its range at a level consistent with its role in the ecosystem (See Sustainability, effect on wild population number). The collection quotas are conservative and based on science (Bucher et al., 1995; Flombaum et al., 1997).

Included with Argentina's application is Decision 425/97, the Letter of Agreement To Conserve the Blue-fronted Parrot (Amazona aestiva) in Argentina, issued by the Department of Natural Resources and Sustainable Development. The Decision requires the establishment, using income generated from the program, of government-owned reserves where harvesting of blue-fronted amazons is prohibited. It also authorizes designating wooded areas within large private properties where parrot harvesting is permitted. The program coordinators work closely with provincial officials to determine where the reserves should be established in order to maximize critical habitat protection. Since the program's inception, three reserves have been established: Salta Province (dry transitional forest, established November, 2001, 15,000 ha), Chaco Province (dry chaco forest, established May, 2002 with 17,500 ha), and Jujuy Province (transitional forest, established December, 2002 with 10,000 ha). The reserve in Salta Province now also serves as the nucleus of a larger biosphere reserve. In Reserva Natural Loro Hablador, Chaco Province, funds from the project paid for the construction of a small building which is used as a guardhouse and a dormitory, and to store supplies for researchers and staff. The reserves are managed with funds and staff from the project.

The sustainable-use management plan prohibits the felling of nest trees to collect nestlings, thereby protecting nest sites. Exportation is only authorized for birds from nests that are marked and numbered and meet the project criteria. The financial benefits to the landowners from the controlled harvest provide the landowners an incentive to protect the nesting habitat on their property. In citrus groves where juvenile birds are collected, the killing of birds as agricultural pests, normally permitted by provincial law, is prohibited. The applicant notes that participating landowners become sensitized and educated regarding conservation of the species and its habitat through the authorization process, inspections, and advice on how to minimize environmental impact in the harvest process. Based on this information, we conclude that Argentina's scientifically based management plan for blue-fronted amazons provides for the conservation of the species and its habitat.

Implementation and enforcement: The applicant has provided substantial implementation and enforcement information. Decision 425/97 gives oversight of the project to the Wildlife Office. It provides mechanisms for the administration and enforcement of the program, establishment of reserves, control of illegal trade, and handling and disposition of confiscated birds at the national and provincial levels. Annual decrees also address collection zones, quotas, and export requirements.

Most of the oversight for the project is done by project staff members. Project staff live in the communities or on the properties of collectors during the harvest seasons. They place leg bands on each captured nestling and record biological data, inspect nests, mark each tree from which nestlings are removed, and inspect animal care conditions. All inspection and biological information is maintained in a large database. Staff members also accompany all collectors of juvenile birds to ensure compliance with project policies. The project coordinators identify collection properties and establish collection quotas for each broker so that brokers do not purchase more birds than allotted. In addition, project staff members accompany brokers when birds are purchased from the collectors. Staff members also inspect the parrot housing facilities of collectors and brokers. Frequent inspections by staff members and the perceived importance of the project in communities where the income generated by the collection is shared among community members reduce the incentive to cheat. During a site visit in January 2003, two U.S. Fish and Wildlife Service, International Affairs, biologists observed the project coordinators take every available opportunity to provide outreach materials and information to national law enforcement personnel at highway checkpoints in the region. Officers were reminded to contact the provincial wildlife authority if they observed any individual with numerous parrots who did not have authorized certificates of origin and leg bands on the birds (contact information was provided). Unlike in the 1980s, birds can no longer be exported directly from the provinces; all legal exports of blue-fronted amazons from this project are through Buenos Aires.

The provinces participating in the program are responsible for meeting the criteria set forth in the national decrees, and only birds from authorized and inspected properties will be permitted to be exported. We received international trade data from the United Nations Environment Programme-World Conservation Monitoring Centre (UNEP-WCMC) showing that the number of blue-fronted amazons exported from Argentina during 1998 and 1999 closely matched the number of birds that were harvested for the program and certified for export, as reported in the application. Based on the above information, we conclude that the program appears to be adequately implemented and enforced.

Sustainability, effect on wild population number: The blue-fronted amazon is one of the most common amazon species in South America. Although the species is listed in CITES Appendix II, it is not listed in Birds To Watch 2: The World List of Threatened Birds (Collar et al., 1994), Parrots: Status Survey and Conservation Action Plan 2000-2004 (Snyder et al., 2000), or the 2002 IUCN Red List of Threatened Animals (http://www.redlist.org). In their comments to the Division of Management Authority (October 2000), TRAFFIC—North America and TRAFFIC—South America argued that the wild blue-fronted amazon parrot population could sustain the proposed harvest.

The applicant proposes collection of nestlings during the breeding season (December and January) and juvenile birds, which are designated as pests by landowners, on citrus farms in May, June, and July. While the species' range extends over 430,000 km² in Argentina, not all of the range is available habitat. The greatest population densities are within an area of 200,000 km², and the area subject to management that contains optimal roosting, foraging, and nesting areas is 170,000 km² in the Provinces of Chaco, Formosa, Jujuy, and Salta (Moschione and Banchs, 1993). Sampling in three localities between 1996 and 2002 resulted in an estimation of 7.70 nests per km² (1,309,000 active nests per breeding season within the management area). The mean number of hatchlings per nest at the sites sampled ranged from 3.87 to 4.27 hatchlings (Banchs et al., 2000).

The nestling collection quotas are based on the total number of participating properties, the amount of forest in each, and the degree of past compliance by each collector. For new properties, satellite photographs are used to determine the area of forest and estimate nest density. If the property is fully forested, there is a high probability that there will be at least one nest per 7 hectares. However, to be conservative, the project assumes one nest per 20 hectares. Therefore, on a 100-hectare property, nestlings may be collected from only 5 nests, regardless of the actual number of nests on the property. In each nest from which birds are collected, a minimum of one nestling must be left in the nest. Because the typical nest contains 4 eggs, of which 3 hatch, and 2 nestlings survive to fledge, on the 100-hectare property, two nestlings could be taken from each of the five nests. Thus, the quota for the property would be 10 nestlings. Using fledgling rate only, the harvest per nest is less than that recommended by Bucher et al. (1995) as sustainable. Using fledging rate only, Bucher et al. (1995) recommended a harvest of 1.5 nestlings per nest based on a study of the population biology of the blue-fronted amazon at the Los Colorados Field Station, Salta Province. According to the model by Bucher et al., on a 100-hectare property, 21.4 nestlings could be harvested sustainably given one nest per seven hectares.

The greater the number of properties that participate in the program, the higher the quota. Large properties are given much smaller quotas ( based on an estimate of 1 nest/50 ha) because it is unlikely that the collector will explore the entire property. The total national quota is equal to the sum of the quotas from the different properties. The quota per property in succeeding years may be adjusted in response to the results of sampling (actual nest counts and number of hatchlings per nest). If a collector does not abide by the rules of the project, his quota may be lowered or, in rare instances, he may be expelled from the program. Only birds removed from individually numbered nest cavities in standing trees may be collected. Capture involves cutting a hole into the cavity to reach the nestling and resealing the hole following take. The project staff and landowners have observed pairs re-using nests that have been opened in previous years, indicating that opening nests has minimal effect on the quality of a nest cavity.

The blue-fronted amazon in Argentina is viewed as a pest species by citrus growers (Bucher 1992). The species is legally classified as a pest species in provinces where the project permits the harvest of juveniles, and large numbers of blue-fronted amazon parrots were regularly shot by citrus-grove managers prior to the establishment of the sustainable-use program. During their visit, the Service biologists were informed that there has not been an observed decline in the number of juvenile birds at nearby roosting areas in spite of shooting that may occur on properties not participating in the program. The maximum take of juveniles is set at one-third of the number of nestlings collected in the immediately preceding breeding season. Although the number of participating properties may increase each year, the take of juveniles per unit area does not change. Juveniles can only be taken when the owners declare in writing to the local administrative authority that the birds are damaging their crops, and project staff must verify that the damage is due to blue-fronted amazons. Banchs and Moschione believe that there are over 700,000 juveniles in the transitional forest area (Pers. comm. with DSA and DMA biologists, Jan. 2003). Because few nestlings are found in the Salta and Jujuy Provinces, the creation of reserves there to protect the transitional forests, as required by Decision 425/97, was made possible only through the harvest of juveniles. Thus, the limited harvest of juveniles may actually increase the population by protecting important roosting areas. As with nestlings, a project staff member bands each bird captured and collects biological data. The staff member also explores the property to determine if the participant is also shooting parrots. If so, the quota is reduced in the current or following year, or the collector is suspended from the program.

It is doubtful that the individuals that are left in the nests following the nestling collection become the source of juveniles collected in the citrus groves are the same. According to Banchs and Moschione, this is because the distance between the nesting areas and the citrus groves is over 150 km. It is unlikely that the flocks observed in the citrus groves are those that nest on the properties participating in the program (E-mail to M. Kreger, February 7, 2003).

The total quota for nestlings and juveniles has not been met in any given year. This is because the properties are extensive and may not be completely explored. The applicant notes that it is difficult to locate nests, the vegetation is often dense and impenetrable, and most indigenous communities prefer to take only the birds they need to pay for short-term (subsistence) economic needs. No birds may be collected before or after the collection period. From a total authorized quota of 16,348 birds (nestlings + juveniles) for the period 1998-2002, only 8,940 were actually collected and exported.

Although complete information on the population biology of this species is not available, funds generated by the sustainable-use program are being used to address information gaps. All of the data collected each season by program staff members are entered into a database maintained by I. Berkunsky, a Ph.D. student and author of the management plan for the reserve in Chaco Province. These data are providing information on the number of nestlings per nest, nestling health and mortality, nest locations, whether or not nests are being re-used, harvest trends at each property or habitat, who is harvesting, and levels of compliance.

Now that reserves are in place, basic biological studies can be accomplished. Because there is no extraction of parrots in the reserves, these areas serve as a control for comparison with properties involved in the harvest. Berkunsky is also studying the reproductive biology of the birds, including clutch size, fledging rate, frequency of repeated nest use, predation of fledglings, natural recruitment, etc. Another study, which will involve radio-tracking of individuals, will examine population dynamics, flock movements, and habitat use. Such a study will determine whether birds in the harvest areas flock to the transitional forests or citrus groves. The project should also allow estimation of the percentage of the total population involved in foraging in citrus groves. Additional studies are proposed to focus on taxonomy, landscape ecology, the impact of foraging on citrus groves, and the impact of the project on local economies.

The information generated by these studies will also assist us to determine whether to renew the program after the initial approval period. If approved, we will require that the applicant provide an annual report at the end of each collection season during the period covered by the approval. The applicant will be asked to include in the report the number and size of the properties participating in the program, population censuses in the collection areas, and an assessment of the short- and long-term impacts of collection on the population, including recruitment, natural nestling mortality within the nest, and the effects of artificially opening and resealing nest cavities.

Illegal Trade, Domestic Trade, Subsistence Use, Disease, Habitat Loss

The management plan for the species addresses illegal trade, domestic trade, subsistence use, disease, and habitat loss. The program is operated at a national level with collaboration at the provincial level. In a supplemental letter dated September 2000, the applicant stated that domestic demand for blue-fronted amazons has declined due to economic factors and stricter controls over the harvest and transport of the species. In addition, more field personnel have been assigned to monitor legal harvest and control illegal trade. Argentina's application states that domestic trade is under the same guidelines as the proposed program and involves fewer than 150 birds per year.

The project is the only legal means to export blue-fronted amazons or commercialize parrots domestically. Some of the project birds are sold as pets in large cities such as Buenos Aires at prices competitive with export prices. There is a “folkloric” market in small pueblos and aldeas within the range of the species, where birds captured by individuals not participating in the program are sold as pets to local people. Such trade of single birds is permitted within a province. Larger numbers of birds in transport that are not certified as originating from the program are confiscated. Because the birds are imprinted on humans and their exact origin is unknown, they are non-releasable. The project pays for their rehabilitation and distributes them to local people as pets along with information about their care and about conservation of the species. Although about 500 non-program parrots were confiscated in 2002, Banchs and Moschione believe that illegal exports have declined by 600 birds each year since the inception of the program based on the numbers of birds confiscated by provincial authorities (Pers. comm. with DSA and DMA biologists, Jan. 2003).

The program staff strictly controls the harvest and bands all specimens in the field immediately after capture. Staff members ensure that nesting trees are labeled with plastic tags, check that no tree has been cut down to retrieve nestlings, and inspect some, to all, of the nests from which the nestlings have been removed, to verify that at least one nestling remains in the nest. The nestlings left in the nest are marked by project staff members under each wing with methylene blue to ensure they will not be harvested later and put into trade. Because the bands, capture locations, and other identifying information for each bird must be registered at a national level, and only birds harvested in accordance with the sustainable-use management plan are exported as part of this program, we believe that reasonable measures are being implemented to prevent illegal trafficking in blue-fronted amazon parrots from Argentina. More inspections are made on the properties of first-time participants and on those identified as needing closer oversight to ensure compliance with the program.

The possibility of disease is a concern within holding areas and in the countries into which the birds are imported. Decision 425/97 requires that a veterinarian be present at the assembly areas, separation within the assembly facility of birds captured from different locations, and appropriate quarantine prior to export. The birds are not assembled in the same housing area as other species, the housing areas must be well-ventilated, the floors of the cages must be cleaned daily, and sick birds must be isolated for diagnosis and treatment. Quarantine in Argentina must comply with rules established by SENASA (National Animal Health Service). Exotic birds imported into the United States are subject to quarantine in U.S. Department of Agriculture approved facilities before they can be released to U.S. importers. If the program were approved, blue-fronted amazons from Argentina would be subject to those quarantine requirements. Spain currently imports a large number of blue-fronted amazons from Argentina's sustainable-use program, and the Management Authority of that country reports that they have not linked any avian disease outbreaks to blue-fronted amazons from Argentina (E-mail to A. St. John, May 12, 2003). We are confident that approving this program would not increase the risk of introduction of avian diseases to the United States.

Loss of parrot habitat results mainly from logging of nesting habitat or habitat conversion for farming and agriculture. This program is intended to reduce habitat loss by providing incentives for protecting nesting areas on private property and requiring the establishment of national reserves.

Methods of Capture, Maintenance, and Transport

Nestlings are harvested in December and January. At least one nestling must be left in every nest harvested. The blue-fronted amazon is a cavity nester. In order to locate nests, collectors look for holes in tree trunks that have insects swarming around the opening, adult birds entering and leaving the cavity, or audible vocalizations from within the cavity. In the 1980s, collectors cut down nesting trees to collect the nestlings. However, Argentina's sustainable-use management program prohibits this practice, and project staff train collectors to use lassos and harness systems to safely climb nest trees to collect the birds. Once at the opening of the cavity, collectors use a weighted string to determine the depth of the nest. When the depth is determined, the collector uses an axe or machete to cut a hole in the side of the tree in order to remove the nestlings. The nestlings are placed in a bag and the collector reseals the new opening with mud and sticks. A plastic identification label, indicating the unique number of the nest, is nailed to each harvested nesting tree. There is no evidence, since full implementation of the project in December 1997, that opening and resealing a hole near the nest has caused mortality of the remaining nestlings or failure of adult pairs to use the site in subsequent years. Project staff are continuing to collect these data.

After harvest, the nestlings are placed in a holding area until they are purchased by a broker. The holding areas must be dry to avoid fungus-induced respiratory and skin infections. We observed several different holding areas. The most common was a shallow hole dug into the ground with wooden planks over the top to keep predators out and maintain darkness typical of the nest.

The birds are hand-fed at least three times per day. The feed used is a commercial corn-based mash produced specifically for parrots by a pet food company in Buenos Aires. Project personnel provide the feed and feeding instructions to the collectors. The mash is mixed with water and fed by hand or spoon. On the site visit, we saw no evidence of force-feeding. Collectors and their families often supplement the commercial feed with local fruit and seeds that the birds would have been likely to receive from their parents.

Brokers prefer to purchase nestlings when the birds can feed independently. In addition, frequent handling of the birds is thought to tame them. We did not see nestlings in the holding area resist handling. We saw no evidence of illness or injuries in the nestlings in the holding areas, and collectors report very few mortalities. The nestlings remain with the collector 2-4 weeks, depending on the age of the birds at the time of collection.

Project staff members (biologists or field technicians) visit each collector before the arrival of the broker. They affix leg bands (open metal bands that once closed can only be removed by breaking) with the code AR or ARG and a unique identification number. Only staff members may affix leg bands, reducing the likelihood of injury during banding and ensuring that only legally acquired birds are banded. The birds are weighed, wing length is measured, and the general health of each bird is recorded. Injured birds are treated, and most injuries have been superficial around legs or toes. If the project staff were to observe evidence of a high mortality, injuries, or more birds collected than the quota allows, the collector might have his quota reduced the following year or be suspended from the program.

Juveniles are harvested from May through July in the citrus groves. Project staff members live on the properties and accompany collectors in every stage of the trapping process. Snares made of reeds are set at dawn before the birds arrive to forage in the citrus groves. The snares are set in the branches of the citrus trees to ensure that only birds that are actually foraging are caught. If a parrot is captured, its loud vocalizations alert the collector to the capture. In rare instances, other species are captured (e.g., passerines); however, mortality is reported to be minimal. Every trap is inspected and disarmed within four hours of being set. The parrots usually retreat to the transitional forest by midday to escape the heat. No blue-fronted amazon has required euthanasia as a result of injuries sustained from the trapping process for juvenile birds since the project's inception.

We visited the holding facilities of three brokers. Each facility was indoors and contained stainless steel cages either suspended from the ceiling, on legs above the floor, or mounted on the wall above the floor. The cages are constructed of wire and contain water and feed pans. Each facility had windows providing sunlight, ventilation, drainage, and a source of clean running water. Depending on the size of the bird, up to 25 birds can be housed in each cage. The same commercial diet provided to collectors is provided to brokers. Brokers typically maintain the birds for less than 2 weeks. According to the application, cages at the assembly area may house up to 30 birds per cubic meter. We believe that, particularly for nestlings, such space is more than adequate. Other housing conditions, such as ventilation, lighting, running water, and sanitation, also appear to be adequate. Each assembly center is required to have a veterinarian available, who is responsible for animal health and official reporting.

Transport from the point of capture to the quarantine facility in Buenos Aires, road transport in excess of 500 kilometers, and air transport, require the use of crates built to IATA (International Air Transport Association) standards. Air circulation, crate handling, and other conditions for transport within the province of origin are addressed in the application, but do not have to meet IATA standards. It is important to note that Standards for Humane and Healthful Transport of Wild Mammals and Birds to the United States (50 CFR 14.105) prohibits the import of unweaned birds. Subsequently, we would not allow the import of birds into the United States that still require hand-feeding. However, during our visit to collection sites and broker facilities, brokers noted that they only purchase birds from collectors when the birds no longer require hand-feeding.

In a letter dated September 2000, the applicant reported that mortality during capture and transport is less than one percent. The nestling mortality, primarily during housing, in 1998 was 3.2 percent, 22.5 percent in 1999, and 4.2 percent in 2000. The high mortality in 1999 was due to Pacheco's disease at a quarantine facility that killed 95 percent of the birds at that facility. After that incident, Resolution 1955/99 was passed, that suspends from the program any exporters who experience mortalities greater than 25 percent in one season. Other causes of mortality that have been experienced in the program were not reported to us, although the application indicates that such information is reported to the Wildlife Office. No numbers were provided on animals that were sick or injured during the capture, housing, and transport process. As a condition of program approval, we would require that the annual reports include figures on disease, injury, and mortality during capture, housing, and transport. We would also require that the applicant provide training to program participants to ensure that appropriate parrot husbandry (including diet and basic animal health care) is provided to all individuals who will be responsible for the birds.

Section 15.32(b)(3) Whether the Country of Export Has Developed a Scientifically Based Management Plan for the Species That Considers Factors Relating to the Multi-National Distribution of the Species

The Division of Scientific Authority sent letters to the Scientific Authorities of the range countries for this species (Argentina, Bolivia, Brazil, and Paraguay) and asked them to address this criterion. Argentina, Bolivia, and Paraguay responded in support of Argentina's sustainable-use management plan. We did not receive a response from Brazil. However, the predominant subspecies in Brazil, Amazona aestiva aestiva, is not found in Argentina (Collar 1997). The Bolivian Scientific Authority said that Bolivia's blue-fronted amazon populations are non-migratory and would not be affected by the sustainable-use program in Argentina (Marianela Subieta Frías, Executive Director of the National Museum of Natural History in La Paz, Bolivia, email to DSA, September 2000). Bolivia expressed its support for Argentina's program, but noted concern over the possibility of illegally harvested Bolivian birds entering Argentina and being exported through this program. Studies of this species in Paraguay indicate that breeding populations are non-migratory and are distinct from populations in Argentina. Thus, the program in Argentina would not affect the populations in Paraguay (Braulio Román Solís, Director, CITES Office, Paraguay, letter to DSA, August 2000). According to Mr. Solís, Paraguay developed a similar program in 1999 based on the Argentine program and has regulations to ensure sustainable management of the species. Although Paraguay reported that its population of blue-fronted amazons is robust and that the species is locally common, the European Commission has asked Member States not to allow imports of blue-fronted amazons from Paraguay until further notice. This decision was made in response to information received that called into question the scientific basis of Paraguay's export quotas for this species. (E-mail to A. St. John, May 8, 2003). Argentina, Bolivia, and Paraguay have held roundtable discussions to develop a regional study plan in order to determine optimal population management for this species. They have also discussed the need for local educational outreach.

The application and additional information received from Argentina outline the safeguards in place to prevent illegally harvested birds from entering this program. As discussed above, most of the oversight for the project is done by project staff members. Only program staff affix legbands (open metal bands that once closed can only be removed by breaking) with the code AR or ARG and a unique identification number, and only birds with official bands are permitted for export. See earlier sections for discussion of additional safeguards. This program is the only legal source of birds for export from Argentina, and all exports are through Buenos Aires.

Complete population biology information is lacking for the specific effects of this program on breeding and recruitment of this species in other range countries, but we are unaware of any possible detrimental effects of this program on conservation programs or enforcement efforts throughout the range of this species. The program coordinators have been in contact with biologists from the other range countries who have expressed interest in developing similar programs (Pers. comm. with DSA and DMA biologists, Jan. 2003). The export of blue-fronted amazon parrots from each range country is regulated by CITES, and imports into the United States would also be subject to the provisions of the WBCA.

We believe that the proposed level of harvest will maintain the species throughout its range at a level consistent with its role in the ecosystem and that it is unlikely that the proposed harvest will significantly reduce the wild population during the 3 years for which the program would be approved. Critical research on the species' population biology as a result of this program in comparison to non-harvested areas will provide insight into the long- and short-term effects of the program on the species' survival. Any problems that arise during the 3 years could be addressed prior to renewing the program. Furthermore, because the program protects nests, creates nesting habitat, and reduces habitat loss, a population increase is expected.

Conclusion

We reviewed the proposal by the Management Authority of Argentina for the approval of a sustainable-use management plan for blue-fronted amazon parrots (Amazona aestiva), based on the criteria in 50 CFR 15.32. We propose to add blue-fronted amazon parrots from Argentina to the list of non-captive-bred species under the Wild Bird Conservation Act of 1992, with the following condition:

1. The Management Authority of Argentina must provide an annual report at the end of each collection season during the period covered by this approval. The report must include the following information: the number and size of the properties participating in the program, results of population censuses in the collection areas, and short- and long-term impacts of collection on the population, including recruitment, nestling mortality, and the effects of artificially opening and resealing nest cavities. The report must also include the number of birds that became sick or injured during capture, housing, and transport. Causes of mortality, illness, and injury should be reported, if known. Such data will be considered at the time of a request for program renewal.

References

Banchs, R., F. Moschione, M. Codesido, P. Gado, and P. Grilli. 2000. Reproductive parameters of Amazona aestiva (Psittacidae) in the Argentine Chaco. Abstracts of the VIII Brazilian Congress of Ornithology.

Bucher, T. H. 1992. Neotropical parrots as pests. In: New World Parrots in Crisis: Solutions from Conservation Biology. Sr. Beissinger and N.F.R. Snyder, eds. Smithsonian Institution Press: Washington, DC, pp. 201-219.

Bucher, E., J. Chani, C. Saravia Toledo, A. Echevarría, and N. Marigliano. 1995. Status and Management of the Blue-fronted Amazon Parrot in Argentina. Unpublished Research Report for TRAFFIC USA. Centro de Zoología Aplicada, University of Córdoba: Argentina, 12 pp.

Collar, N.J., M.J. Crosby, and A.J. Stattersfield. 1994. Birds To Watch 2: The World List of Threatened Birds. BirdLife International/Smithsonian Institution Press: Washington, DC., p. 198.

Collar, N.J. 1997. Blue-fronted Amazon (Amazona aestiva). In: Handbook of the Birds of the World. Volume 4: Sandgrouse to Cuckoos. J. del Hoyo, A. Elliot, J. Sargatal, eds. Lynx Ediciones: Barcelona, p. 473.

European Commission. April 11, 2003. Note for the Attention of the CITES Scientific Authorities of the Member States. ENV.E.3 Brussels, Belgium.

Flombaum, P., L.D. Boffi Lissin, and R. Banchs. 1997. Análisis del bosque chaqueño en función del Loro Hablador (Amazona aestiva). Resúmenes XVIII Reunión Arg., Ecol. Fac. Agron. UBA Bs. As.

IUCN-The World Conservation Union. 2002. 2002 IUCN Red List of Threatened Animals. IUCN: Gland, Switzerland.

Juniper, T., and M. Parr. 1998. Parrots: A Guide to Parrots of the World. Yale University Press: New Haven, Connecticut. Pp. 540-541.

Moschione, F. and R. Banchs. 1993. Distribution of the Loro Hablador (Amazona aestiva) in Northern Argentina. Book of Abstracts I, Ornithology Meeting for the Plata watershed. Ornithology Association of Plata: Iguazú, Paraguay.

Snyder, N., P. McGowan, J. Gilardi, and A. Grajal. 2000. Parrots: Status Survey and Conservation Action Plan 2000-2004. IUCN: Gland, Switzerland. Pp. 90-97.

Required Determinations

Regulatory Planning and Review

In accordance with the criteria in Executive Order 12866, this proposed rule is not a significant regulatory action, because:

a. The annual economic effect of the proposed rule would be less than $100 million and it would not adversely affect any economic sector, productivity, jobs, the environment, or other units of government. A cost-benefit and economic analysis is not required.

b. This proposed rule would not create inconsistencies with other agencies' actions.

c. This proposed rule would not materially alter the budgetary impact of entitlements, grants, user fees, loan programs, or the rights and obligations of recipients thereof.

d. This proposed rule would not raise novel legal or policy issues.

Regulatory Flexibility Act

The Department of the Interior certifies that the proposed rule would not have a significant economic effect on a substantial number of small entities as defined under the Regulatory Flexibility Act (5 U.S.C. 601 et seq.). Most of the potential applicants who might take advantage of the procedures implemented through this rule are individuals or small entities. However, we do not expect that the amount of trade generated as a result of this rule to be large enough to have a significant economic effect on any industries, large or small.

Small Business Regulatory Enforcement Fairness Act

This proposed rule is not a major rule under 5 U.S.C. 804(2), the Small Business Regulatory Enforcement Fairness Act, because it:

a. Would not have an annual effect on the economy of $100 million or more.

b. Would not cause a major increase in costs or prices for consumers, individual industries, Federal, State, or local government agencies, or geographic regions.

c. Would not have significant negative effects on competition, employment, investment, productivity, innovation, or the ability of U.S.-based companies to compete with foreign-based companies.

Unfunded Mandates Reform Act

The proposed rule would not significantly or uniquely affect small governments under the Unfunded Mandates Reform Act (2 U.S.C. 1501, et seq.). The proposed rule would not produce a Federal requirement of $100 million or greater in any year, so it is not a “significant regulatory action” under the Unfunded Mandates Reform Act.

Takings

Under Executive Order 12630, this proposed rule would not have significant takings implications. The proposed rule would set forth regulations under an existing law (the WBCA) and a takings implication evaluation is not required.

Federalism

Since the proposed rule applies to the importation of live wild birds into the United States, it does not contain any Federalism impacts as described in Executive Order 13132. This proposed rule would not have a substantial direct effect on the States, on the relationship between the Federal government and the States, or on the distribution of power and responsibilities among the various levels of government, and a Federalism evaluation is not required.

Civil Justice Reform

Under Executive Order 12988, the Office of the Solicitor has determined that this proposed rule would not overly burden the judicial system and meets the requirements of sections 3(a) and 3(b)(2) of the Order.

Energy Supply, Distribution or Use

Because this proposed rule would allow the import into the United States of blue-fronted amazon parrots removed from the wild in Argentina under an approved sustainable-use management plan, it is not a significant regulatory action under Executive Order 12866 and is not expected to significantly affect energy supplies, distribution, or use.

Paperwork Reduction Act of 1995

This proposed rule does not contain any new information collection requirements that require approval from the Office of Management and Budget (OMB). Existing requirements in 50 CFR 15 are currently approved by OMB under OMB control number 1018-0093, which expires on March 31, 2004.

National Environmental Policy Act

We have prepared a draft environmental assessment under regulations implementing the National Environmental Policy Act of 1969 (NEPA). Council on Environmental Quality regulations in 40 CFR 1501.3(b) state that an agency “may prepare an environmental assessment on any action at any time in order to assist agency planning and decision making.” Future regulations implementing the WBCA may be subject to NEPA documentation requirements on a case-by-case basis. The draft environmental assessment for this proposed action is on file at the Division of Management Authority in Arlington, Virginia, and a copy may be obtained for review and comment by contacting Dr. Peter O. Thomas, Chief, Division of Management Authority, U.S. Fish and Wildlife Service; telephone (703) 358-2093; fax (703) 358-2280.

Government-to-Government Relationship With Tribes

Under the President's memorandum of April 29, 1994, “Government-to-Government Relations With Native American Tribal Governments” (59 FR 22951) and 512 DM 2, we have evaluated possible effects on Federally recognized Indian tribes and have determined that there are no effects.

Author

This document was prepared by Ms. Anne St. John, Division of Managment Authority, and Dr. Michael Kreger, Division of Scientific Authority, U.S. Fish and Wildlife Service, Washington, DC 20240.

List of Subjects in 50 CFR Part 15

Imports, Reporting and recordkeeping requirements, Wildlife.

Regulation Promulgation

Accordingly, for the reasons given in the preamble, we propose to amend part 15, subchapter B of chapter I, title 50 of the Code of Federal Regulations, as set forth below:

PART 15—WILD BIRD CONSERVATION ACT

1. The authority citation for part 15 continues to read as follows:

Authority: Pub. L. 102-440, 16 U.S.C. 4901-4916.

2. Amend § 15.33 by revising paragraph (b) to read as follows:

§ 15.33 Species included in the approved list.

* * * * *

(b) Non-captive-bred species. The list in this paragraph includes species of non-captive-bred exotic birds and countries for which importation into the United States is not prohibited by § 15.11. The species are grouped taxonomically by order, and may only be imported from the approved country, except as provided under a permit issued pursuant to subpart C of this part. The list of non-captive-bred species follows:

Species | Common name | Country | Date approved
Order Psittaciformes: Amazona aestiva. | Blue-fronted Amazon Parrot | Argentina | [date of publication of final rule].

Dated: July 22, 2003.
Paul Hoffman,
Assistant Secretary—Fish and Wildlife and Parks.

[FR Doc. 03-19945 Filed 8-5-03; 8:45 am]

BILLING CODE 4310-55-P